BUREAU OF CONSUMER FINANCIAL PROTECTION

[Docket No. CFPB-2021-0022]

Agency Information Collection Activities: Comment Request

AGENCY: Bureau of Consumer Financial Protection.

ACTION: Notice and request for comment.

SUMMARY: In accordance with the Paperwork Reduction Act of 1995 (PRA), the Bureau of Consumer Financial Protection (Bureau) is requesting to renew the Office of Management and Budget's (OMB's) approval for an existing information collection titled, “Generic Information Collection Plan for Consumer Complaint and Information Collection System (Testing and Feedback).”

DATES: Written comments are encouraged and must be received on or before February 28, 2022 to be assured consideration.

ADDRESSES: You may submit comments, identified by the title of the information collection, OMB Control Number (see below), and docket number (see above), by any of the following methods:

• Federal eRulemaking Portal: http://www.regulations.gov. Follow the instructions for submitting comments.

• Email: PRA_Comments@cfpb.gov. Include Docket No. CFPB-2021-0022 in the subject line of the email.

• Mail/Hand Delivery/Courier: Comment intake, Bureau of Consumer Financial Protection (Attention: PRA Office), 1700 G Street NW, Washington, DC 20552. Please note that due to circumstances associated with the COVID-19 pandemic, the Bureau discourages the submission of comments by mail, hand delivery, or courier. Please note that comments submitted after the comment period will not be accepted. In general, all comments received will become public records, including any personal information provided. Sensitive personal information, such as account numbers or Social Security numbers, should not be included.

FOR FURTHER INFORMATION CONTACT: Documentation prepared in support of this information collection request is available at www.regulations.gov. Requests for additional information should be directed to Anthony May, PRA Officer, at (202) 435-7278, or email: CFPB_PRA@cfpb.gov. If you require this document in an alternative electronic format, please contact CFPB_Accessibility@cfpb.gov. Please do not submit comments to these email boxes.

SUPPLEMENTARY INFORMATION: Title of Collection: Generic Information Collection Plan for Consumer Complaint and Information Collection System (Testing and Feedback).

OMB Control Number: 3170-0042.

Type of Review: Extension of a currently approved information collection.

Affected Public: Individuals or households.

Estimated Number of Respondents: 655,000 (three-year total: 1,965,000).

Estimated Total Annual Burden Hours: 110,833 (three-year total: 332,499).

Abstract: The Bureau has undertaken a variety of service delivery-focused activities supported by the Dodd-Frank Wall Street Reform and Consumer Protection Act, Public Law 111-2013 (Dodd-Frank Act). These activities (which include consumer complaint/inquiry processing, referral, and monitoring) involve several interrelated systems.¹ The streamlined process of the generic clearance will allow the Bureau to implement these systems efficiently which is in line with the Bureau's commitment to continuous improvement of its delivery of services through iterative testing and feedback collection.

¹ These interrelated systems include secure, web-based portals that allow consumers, companies, and agencies to access complaints and an online “Tell Your Story” feature. The “Tell Your Story” feature allows consumers to share feedback about their experiences in the consumer financial marketplace.

Request for Comments: Comments are invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for OMB approval. All comments will become a matter of public record.

Anthony May,
Paperwork Reduction Act Officer, Bureau of Consumer Financial Protection.

[FR Doc. 2021-28126 Filed 12-27-21; 8:45 am]

BILLING CODE 4810-AM-P